DEPARTMENT OF COMMERCE

National Oceanic and Atmospheric Administration

RIN 0648-XD746

Council Coordination Committee Meeting

AGENCY: National Marine Fisheries Service (NMFS), National Oceanic and Atmospheric Administration (NOAA), Commerce.

ACTION: Notice of a public meeting.

SUMMARY: NMFS will host a meeting of the Council Coordination Committee (CCC), consisting of the Regional Fishery Management Council chairs, vice chairs, and executive directors on February 18-19, 2015. The intent of this meeting is to discuss issues of relevance to the Councils, including budget allocations for FY2015 and budget planning for FY2016 and beyond; FY2015 Priorities; an overview of the Saltonstall-Kennedy FY14-15 grants process; the FY2015 legislative outlook; updates on Magnuson-Stevens Act (MSA) National Standard 1, the Presidential Task Force on combatting Illegal, Unreported, and Unregulated (IUU) fishing and seafood fraud, MSA operational guidelines, NMFS climate science strategy, and habitat conservation initiatives; updates on electronic monitoring implementation plans, the Fisheries Forum Information Network, the report on Science Center 2013 data program review and 2014 assessment program review; and Council workgroup updates, including stock rebuilding, National Environmental Policy Act (NEPA), allocation, and socioeconomic issues and other topics related to implementation of the MSA.

DATES: The meeting will begin at 9 a.m. on Wednesday, February 18, 2015, recess at 5:45 p.m. or when business is complete; and reconvene at 9 a.m. on Thursday, February 19, 2015, and adjourn by 5 p.m. or when business is complete.

ADDRESSES: The meeting will be held at the Holiday Inn Capitol Hill, 550 C Street SW., Washington, DC 20024, telephone 202-479-4000, fax 202-288-4627.

FOR FURTHER INFORMATION CONTACT: William D. Chappell: telephone 301-427-8505 or email at William.Chappell@noaa.gov; or Brian Fredieu: telephone 301-427-8505 or email at Brian.Fredieu@noaa.gov.

SUPPLEMENTARY INFORMATION: The Magnuson-Stevens Fishery Conservation and Management Reauthorization Act (MSRA) established the CCC by amending Section 302 (16 U.S.C. 1852) of the MSA. The committee consists of the chairs, vice chairs, and executive directors of each of the eight Regional Fishery Management Councils authorized by the MSA or other Council members or staff. NMFS will host this meeting and provide reports to the CCC for its information and discussion. All sessions are open to the public.

Proposed Agenda

Wednesday, February 18, 2015

9 a.m.—Morning Session Begins

• Welcome/Introductions

• NMFS Update

• NMFS FY15 Priorities

• Council Report Round Robin: Top three priorities for 2015

• Management and Budget update: FY2015—Status, Council funding; FY2016—Update Budget Outlook; Records Management

• Overview of S/K FY14-15 Grant Process

• Legislative Outlook

• National Standard 1

• Presidential Task Force on combatting Illegal, Unreported, and Unregulated (IUU) fishing and seafood fraud

• Update on MSA Operational Guidelines

5:45 p.m.—Adjourn for the day

Thursday, February 20, 2015

9 a.m.—Morning Session Begins

• NMFS Climate Science Strategy

• Report on Science Centers 2013 Data Program Review and 2014 Assessment Program Review

• Electronic Monitoring Implementation Plans

• Fisheries Forum Information Network (FFIN)

• Habitat Workgroup Update and Future Planning

• Council Workgroup Updates: MSA—Stock Rebuilding; MSA—Reconciling Statutory Inconsistency (NEPA); Legislative Committee (MSA reauthorization); CCC Allocation Review Working Group; Western Pacific Fishery Management Council (WPFMC) Socioeconomic Workshop Report

5 p.m.—Adjourn for the day

The order in which the agenda items are addressed may change. The CCC will meet as late as necessary to complete scheduled business.

Special Accommodations

This meeting is physically accessible to people with disabilities. Requests for sign language interpretation or other auxiliary aids should be directed to Brian Fredieu at 301-427-8505 at least five working days prior to the meeting.

Dated: January 28, 2015.
Alan Risenhoover,
Director, Office of Sustainable Fisheries, National Marine Fisheries Service.

[FR Doc. 2015-02022 Filed 2-2-15; 8:45 am]

BILLING CODE 3510-22-P